EXPORT-IMPORT BANK OF THE UNITED STATES

Notice of Open Special Meeting of the Renewable Energy Exports Advisory Committee of the Export-Import Bank of the United States (Ex-Im Bank)

SUMMARY: The Renewable Energy Exports Advisory Committee was established by the Board of Directors at Ex-Im Bank to assist the Bank in meeting its objective of supporting U.S. exporters in renewable energy industries. In addition, the goal is to seek advice from the private sector about best practices when addressing renewable energy export.

Time and Place: Friday, December 6, 2002, at 9:30 a.m. to 12 p.m. The meeting will be held at Ex-Im Bank in Room 1143, 811 Vermont Avenue, NW., Washington, DC 20571.

Agenda: Agenda items include a discussion of the Committee's recommendations to Ex-Im Bank.

Public Participation: The meeting will be open to public participation, and the last 10 minutes will be set aside for oral questions or comments. If any person wishes auxiliary aids (such as a sign language interpreter) or other special accommodations, please contact, prior to June 4, 2002, Nichole Westin, Room 1257, 811 Vermont Avenue, NW., Washington, DC 20571, Voice: (202) 565-3542 or TDD (202) 565-3377.

Further Information: For further information, contact Nichole Westin, Room 1237, 811 Vermont Ave., NW., Washington, DC 20571, (202) 565-3542.

David C. Chavern,
Deputy General Counsel

[FR Doc. 02-29102 Filed 11-18-02; 8:45 am]

BILLING CODE 6690-01-M